DEPARTMENT OF LABOR

Employment and Training Administration

Investigations Regarding Certifications of Eligibility to Apply for NAFTA Transitional Adjustment Assistance

Petitions for transitional adjustment assistance under the North American Free Trade Agreement-Transitional Adjustment Assistance Implementation Act (Pub. L. 103-182), hereinafter called (NAFTA-TAA), have been filed with State governors under section 250(b)(1) of subchapter D, Chapter 2, title II, of the Trade Act of 1974, as amended, are identified in the Appendix to this notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than January 8, 2001.

Also, interested persons are invited to submit written comments regarding the subject matter of the petitions to the Director of DTAA at the address shown below not later than January 8, 2001.

Petitions filed with the Governors are available for inspection at the Office of the Director, DTAA, ETA, DOL, Room C-5311, 200 Constitution Avenue, NW., Washington, DC 20210.

Signed at Washington, DC this 19th day of December, 2000.
Edward A. Tomchick,
Director, Division of Trade Adjustment Assistance.

Appendix

Subject firm | Location | Date received at Governor's office | Petition No. | Articles produced
Stanley Door Systems, Stanley Works (Co.) | San Dimas, CA | 10/16/2000 | NAFTA-4,215 | hardware components for doors
Ashby Industries (Co.) | Martinsville, VA | 10/30/2000 | NAFTA-4,216 | textile machinery bleach range
Leapwood Apparel (Co.) | Adamsville, TN | 10/16/2000 | NAFTA-4,217 | men's & women's knit shirt's
Designer Hearths (Wkrs) | Missoula, MT | 10/06/2000 | NAFTA-4,218 | fireplace hearths
Colortex International (Wkrs) | Salisbury, NC | 10/11/2000 | NAFTA-4,219 | dyed & finished woven cloth
Stimson Lumber (LPIW) | Bonner, MT | 10/06/2000 | NAFTA-4,220 | plywood & vereer products
Key Circuit (Wkrs) | Fountain Valley, CA | 10/10/2000 | NAFTA-4,221 | printed circuit boards
Norton Company (PACE) | Watervliet, NY | 10/10/2000 | NAFTA-4,222 | Sandpaper
Amscan (Wkrs) | Brooklyn, NY | 10/11/2000 | NAFTA-4,223 | wedding accessories
Northside Manufacturing (Co.) | Philipsburg, PA | 10/11/2000 | NAFTA-4,224 | men's suits
Streamline Fashions (Co.) | Philipsburg, PA | 10/11/2000 | NAFTA-4,224 | men's suits
Advance Transformer (Wkrs) | Monroe, WI | 09/25/2000 | NAFTA-4,225 | eletromagnetic lighting ballasts
Airtherm Products (USWA) | Forrest City, AR | 10/11/2000 | NAFTA-4,226 | heating, ventilating & A/C systems
Harriet and Henderson Yarns (Co.) | Summerville, GA | 10/16/2000 | NAFTA-4,227 | cotton yarn
Contour Medical Technology (Wkrs) | LaVergne, TN | 10/13/2000 | NAFTA-4,228 | disposable medical electrodes
Maxxim Medical (Wkrs) | Clearwater, FL | 10/04/2000 | NAFTA-4,229 | medical dental gloves
General Electric (IBEW) | Bloomington, IN | 10/16/2000 | NAFTA-4,230 | side by side refrigerators
Talon (Co.) | Lake City, SC | 10/19/2000 | NAFTA-4,231 | parts for zippers
Talon (Co.) | Stanley, NC | 10/19/2000 | NAFTA-4,231 | parts for zippers
California Direct Service (Wkrs) | San Diego, CA | 09/19/2000 | NAFTA-4,232 | mails direct mail
Wundies Santtony Wear (Wkrs) | Rockingham, NC | 10/20/2000 | NAFTA-4,233 | ladies undergarments
Parana Supplies (Co.) | El Paso, TX | 10/19/2000 | NAFTA-4,234 | dot matrix ribbon cartridges for printer
Precision Interconnect (Wkrs) | Waupin, WI | 10/17/2000 | NAFTA-4,235 | interface cables
John Crane, Inc. (Co.) | Morton Grove, IL | 10/19/2000 | NAFTA-4,236 | water pump seals
Middleby Marshall (Wkrs) | Fuquay Varina, NC | 10/18/2000 | NAFTA-4,237 | fryers, stovers and steamers
Dekko Automotive Technologies (Co.) | Mt. Ayr, IA | 10/13/2000 | NAFTA-4,238 | wiring harness assemblies
DR Rent (Co.) | Klamath Falls,OR | 10/18/2000 | NAFTA-4,239 | hauling freight & logs
Schlage Lock—Ingersoll Rand (Co.) | San Jose, CA | 10/17/2000 | NAFTA-4,240 | door cylinders & hardware
Tower Automotive (Wkrs) | Kalamazo, MI | 10/17/2000 | NAFTA-4,241 | automotive parts
Hi Line Storage Systems (Wkrs) | Perkasic, PA | 10/17/2000 | NAFTA-4,242 | storage rack
Pronav Ship Management (Wkrs) | Greenwich, CT | 09/19/2000 | NAFTA-4,243 | crew members for vessel sailing
Robert Helmick (Co.) | Kingston, ID | 09/29/2000 | NAFTA-4,244 | build logging roads
Still Man Heating Products (Co.) | Cookeville, TN | 10/23/2000 | NAFTA-4,245 | heating elements
National Mills (Wkrs) | Pittsburg, KS | 10/19/2000 | NAFTA-4,246 | T-shirts
Pine State Knitwear (Wkrs) | Statesville, NC | 12/23/2000 | NAFTA-4,247 | sweaters
Union Pacific Resources (Co.) | Fort Worth, TX | 10/23/2000 | NAFTA-4,248 | crude oil and natural gas
Union Pacific Resources (Co.) | Operating in the State of, CO | 10/23/2000 | NAFTA-4,248 | crude oil and natural gas
Union Pacific Resources (Co.) | Operating in the State of, WY | 10/23/2000 | NAFTA-4,248 | crude oil and natural gas
Union Pacific Resources (Co.) | Operating in the State of, OK | 10/23/2000 | NAFTA-4,248 | crude oil and natural gas
Union Pacific Resources (Co.) | Operating in the State of, KS | 10/23/2000 | NAFTA-4,248 | crude oil and natural gas
Union Pacific Resources (Co.) | Operating in the State of, LA | 10/23/2000 | NAFTA-4,248 | crude oil and natural gas
Union Pacific Resources (Co.) | Operating in the State of, UT | 10/23/2000 | NAFTA-4,248 | crude oil and natural gas
Union Pacific Resources (Co.) | Operating in the State of, TX | 10/23/2000 | NAFTA-4,248 | crude oil and natural gas
Autoliv ASP (Co.) | Ogden, UT | 10/24/2000 | NAFTA-4,249 | filter & leadwire assemblies
Poland Springs Bottling (UFCW) | Poland Springs, ME | 10/18/2000 | NAFTA-4,250 | bottle water
Authentic Fitness (Wkrs) | Bell, CA | 9/16/2000 | NAFTA-4,251 | swimwear
Tri County Blue Print (Wkrs) | Ventura, CA | 10/30/2000 | NAFTA-4,252 | reprographic/microfilm services
Homestake Mining (USWA) | Lead, SD | 10/23/2000 | NAFTA-4,253 | gold
Jakel (Wkrs) | East Prairie, MO | 10/25/2000 | NAFTA-4,254 | electrical motors
Exide Technologies (Wkrs) | Farmes Branch, TX | 10/25/2000 | NAFTA-4,255 | automotives lead acid batteries
Fairfield Manufacturing (UAW) | Lafayette, IN | 10/19/2000 | NAFTA-4,256 | custom gears & planetary devices
A.O. Smith Electrical Products (Co.) | Paoli, IN | 10/23/2000 | NAFTA-4,257 | subfractional horsepower electric motors
U.S. Label Artistic (Wkrs) | Clinton, NC | 10/26/2000 | NAFTA-4,258 | printed labels
Facemate Corporation (Co.) | N. Somersworth, NH | 10/24/2000 | NAFTA-4,259 | flannels
3M Company (Co.) | Boise, ID | 10/26/2000 | NAFTA-4,260 | fly rod cases
Grant Western Lumber (Wkrs) | John Day, OR | 10/30/2000 | NAFTA-4,261 | dimension lumber
ABC-NACO (IBM) | Ashland, WI | 10/26/2000 | NAFTA-4,262 | railtrack switch
Carolina Mills (Co.) | St. Pauls, NC | 10/31/2000 | NAFTA-4,263 | textile yarns
Austin Apparel (Co.) | Lascaster, KY | 10/31/2000 | NAFTA-4,264 | apparel
Tingley Rubber (USWA) | South Plainfield, NJ | 11/01/2000 | NAFTA-4,265 | Rubberized Clothing Goods
Originals Bi-Judi, Inc. (Co.) | Tolleson, AZ | 10/31/2000 | NAFTA-4,266 | Baby Comforters
Alcoa Fujikura Ltd (Co.) | Shelbyville, KY | 10/19/2000 | NAFTA-4,267 | Wiring Harnesses
Utica Cutlery Co (Co.) | Utica, NY | 10/30/2000 | NAFTA-4,268> | Flatware
Snyder Walls Industries (Co.) | Snyder, TX | 10/26/2000 | NAFTA-4,269 | six pocket pants
Elmer's Products, Inc | Bainbridge, NY | 10/30/2000 | NAFTA-4,270 | Wood Fillers, Caulk, Spackling
American Baseball Cap (Wkrs) | Freidens, PA | 11/01/2000 | NAFTA-4,271 | batting helmets
Pyramid Mountain Lumber, Inc (Co.) | Seley Lake, MT | 11/01/2000 | NAFTA-4,272 |
Hit Apparel (Wkrs) | Athens, TN | 11/06/2000 | NAFTA-4,273 | children's Pajamas
Vanalco (Wkrs) | Vancouver, WA | 11/06/2000 | NAFTA-4,274 | aluminum
Autoliv ASP (Wkrs) | Ogden, UT | 11/06/2000 | NAFTA-4,275 | Passenger Airbag Cushions
Stora Enso North America (Co.) | Wisconsin Rapids, WI | 11/01/2000 | NAFTA-4,276 | Paper
NRB Industries, Inc. (Co.) | Radford, VA | 11/06/2000 | NAFTA-4,277 | Broadwoven Fabrics
Encore Textiles, Inc (Co.) | Monroe, NC | 11/07/2000 | NAFTA-4,278 | Tee Shirts
Alstom Power (Co.) | Kings Mountain, NC | 11/07/2000 | NAFTA-4,279 | heat recovery steam generators
Caffall Brothers (Co.) | Wilsonville, OR | 11/09/2000 | NAFTA-4,280 | cedar fencing
Greenwood Mills (Co.) | Greenwood, SC | 11/08/2000 | NAFTA-4,281 | lightweight textiles
Norman Barnes & Company (Co.) | Arlington, WA | 11/03/2000 | NAFTA-4,282 | logs
Rockwell Automotive (UE) | Milwaukee, WI | 11/07/2000 | NAFTA-4,283 | industrial controls
USR Optonix (Co.) | Hackettstown, NJ | 11/02/2000 | NAFTA-4,284 | toner bottles & cartridge
Asten Johnson (Co.) | Walterboro, SC | 11/08/2000 | NAFTA-4,285 | speciality fabrics
Poly One (Co.) | Denver, CO | 11/08/2000 | NAFTA-4,286 | polyethylene pellets
ABB Westingtonhouse (Wkrs) | Festus, MO | 10/26/2000 | NAFTA-4,287 | nuclear fuel
Posies (Co.) | Rockpoint, ME | 11/13/2000 | NAFTA-4,288 | dresses
Staples (Wkrs) | Canton, MI | 11/02/2000 | NAFTA-4,289 | office products
Central Industries of Indiana (Co.) | Greenwood, AR | 11/07/2000 | NAFTA-4,290 | electrical wiring harnesses
American Garment Finishers (Co.) | El Paso, TX | 11/01/2000 | NAFTA-4,291 | garment finishing
Irving Forest Products (PACE) | Ashland, ME | 11/13/2000 | NAFTA-4,292 | dried lumber
Artex International (Co.) | St. George, UT | 10/26/2000 | NAFTA-4,293 | home linens & aprons
Rich and Me (Wkrs.) | Vernon, CA | 11/13/2000 | NAFTA-4,294 | apparel
Jeld Wen Lumber (Co.) | Bend, OR | 11/07/2000 | NAFTA-4,295 | wood mouldings & millwork
Mulox (Co.) | Macon, GA | 9/01/2000 | NAFTA-4,296 | flexible bulk containers
AAVID Thermalloy (Wkrs.) | Santa Ana, CA | 11/03/2000 | NAFTA-4,297 | digital assembly
Cottrell International (Co.) | Englewood, CO | 11/14/2000 | NAFTA-4,298 | dental & medical pouches
Smith and Nephew (Co.) | Charlotte, NC | 11/13/2000 | NAFTA-4,299 | ortho glass
Sasib (USWA) | Depere, WI | 11/16/2000 | NAFTA-4,300 | paper industries machinery
HoltraChem Manufacturing (Co.) | Riegelwood, NC | 11/16/2000 | NAFTA-4,301 | chlorine, caustic soda
Johnson and Johnson Medical (Co.) | El Paso, TX | 11/14/2000 | NAFTA-4,302 | disposable surgical gowns, drapes etc.
Dearborn Brass (GMPPA) | Tyler, TX | 11/16/2000 | NAFTA-4,303 | metal traps
Flowserve Corporation (Wkrs) | Temecule, CA | 11/16/2000 | NAFTA-4,304 | shaft seals
Berg Lumber Company (Wkrs) | Lewistown, MT | 11/14/2000 | NAFTA-4,305 | lumber
Parker Hannifin (USWA) | Lebanon, IN | 11/13/2000 | NAFTA-4,306 | filter cartridges
Lightin—SPX Corp. (Co.) | Wytheville, VA | 11/15/2000 | NAFTA-4,307 | industrial mixing equipment
Spreckels Sugar (UFCW) | Woodland, CA | 11/13/2000 | NAFTA-4,308 | sugar
Kojo Worldwide (Wkrs) | Huntington Beach, CA | 11/06/2000 | NAFTA-4,309 | pillows, bedspreads and drapery
Commonwealth Sprague Capacitor (Co.) | North Adams, MA | 11/09/2000 | NAFTA-4,310 | motor run capacitors
Cooper Standard Automotive (Wkrs) | Mio, MI | 11/14/2000 | NAFTA-4,311 | automotive metal tubing
Trumark Industries (Wkrs) | Spokane, WA | 11/17/2000 | NAFTA-4,312 | fingerjoint studs
Agrilink Foods (Wkrs) | Alamo, TX | 11/20/2000 | NAFTA-4,313 | okra
Lexmark International (Wkrs) | Lexington, KY | 11/20/2000 | NAFTA-4,314 | personal printers & printer cartridges
Consolidated Metco (Wkrs) | Portland, OR | 11/17/2000 | NAFTA-4,315 | parts for heavy duty trucks
Hatfield Trousers (UNITE) | Hatfield, PA | 11/20/2000 | NAFTA-4,316 | men's pants
Plainwell Paper (PACE) | Plainwell, MI | 11/21/2000 | NAFTA-4,317 | labels and paper
Don Shapiro—Action West (Wkrs) | El Paso, TX | 11/21/2000 | NAFTA-4,318 | woman's apparel
Georgia Pacific (PACE) | Baileyville, ME | 11/27/2000 | NAFTA-4,319 | oriendted strand board
Lending Textile (Co.) | Montgomery, PA | 11/21/2000 | NAFTA-4,320 | decorative textile trims
Atlas Bag (Co.) | Des Plaines, IL | 11/13/2000 | NAFTA-4,321 | flexible bluk containers
Crown Pacific (IAMAW) | Coeur d' Alene, ID | 11/16/2000 | NAFTA-4,322 | lumber
Owens Brockway (GMP) | Brockway, PA | 11/21/2000 | NAFTA-4,323 | glass containers
Johns Manville (GMP) | Corona, CA | 11/22/2000 | NAFTA-4,324 | fiberglass
Maytag (Co.) | Jefferson City, MO | 11/22/2000 | NAFTA-4,325 | wire harness
Tyco Electronics (Wkrs) | Sanford, ME | 11/22/2000 | NAFTA-4,326 | terminal blocks
Hagale Industries (Wkrs) | Ava, MO | 11/16/2000 | NAFTA-4,327 | sportwear
Velvac (Wkrs) | New Berlin, WI | 11/27/2000 | NAFTA-4,328 | components for heavy trucks
It's Personal (Wkrs) | New York, NY | 11/11/2000 | NAFTA-4,329 | clothing
Davision Cotton (UNITE) | New York, NY | 11/27/2000 | NAFTA-4,330 | towels
Tyco Electronics (Co.) | Chesterfield, MI | 11/27/2000 | NAFTA-4,331 | electrical connectors
Litton Network Access Systems (Co.) | Roanoke, VA | 11/28/2000 | NAFTA-4,332 | network access
Karmazin Products (Co.) | Wyandatte, MI | 11/28/2000 | NAFTA-4,333 | truck parts
Cherokee Finishing (Co.) | Gaffney, SC | 11/27/2000 | NAFTA-4,334 | printed fabrics
Mediacopy (Co.) | San Leandro, CA | 11/28/2000 | NAFTA-4,335 | video cassettes
Philips Display Components (Wkrs) | Ottawa, OH | 11/28/2000 | NAFTA-4,336 | TV picture tubes
Potlatch—MPPD (Wkrs) | Colquet, MN | 11/28/2000 | NAFTA-4,337 | paper and other wood products
Wiscassett Mills (Co.) | Kannapolis, NC | 11/29/2000 | NAFTA-4,338 | yarns
Tower Automotive Products (USWA) | Milwaukee, Wi | 11/29/2000 | NAFTA-4,339 | truck frames
Findlay Industries (UNITE) | Morrison, TN | 11/29/2000 | NAFTA-4,340 | automobile seat covers
Walls Industries (Co.) | Boaz, AL | 11/29/2000 | NAFTA-4,341 | pants
Daws Manufacturing (Wkrs) | Pensacola, FL | 11/20/2000 | NAFTA-4,342 | toolboxes and running boards
Johnson Controls (Co.) | Poteau, OK | 11/29/2000 | NAFTA-4,343 | controls
A and B Group (Wkrs) | Shubuta, MS | 11/14/2000 | NAFTA-4,344 | alternator rotor
Hutchinson Moving & Storage (Co.) | Thief Rivers Falls, MN | 10/19/2000 | NAFTA-4,345 | trucking service
Willamette Electric Products (Co.) | Portland, OR | 12/01/2000 | NAFTA-4,346 | automotive starters, alternators, etc.
Owens Brockway (GMPPA) | Lakeland, FL | 12/01/2000 | NAFTA-4,347 | glass containers
John Campbell (Wkrs) | Perkasie City, PA | 12/04/2000 | NAFTA-4,348 | textile dyes
Enterprise Lumber—Miller Shingle (Co.) | Arlington, WA | 12/04/2000 | NAFTA-4,349 | cedar lumber
State Coat Front (Co.) | Boston, MA | 12/01/2000 | NAFTA-4,350 | tailored clothing
G.F. Wright Steel & Wire (USWA) | Worcester, MA | 12/01/2000 | NAFTA-4,351 | woven hardware cloth
LTV Steel—Aliquippa Works (USWA) | Aliquippa, PA | 12/01/2000 | NAFTA-4,352 | flat rolled coated products
Centec Roll (Co.) | Bethlehem, PA | 12/04/2000 | NAFTA-4,353 | cast rolls
Akzo Nobel—Transportation Coatings (Co.) | Brownsville, TX | 12/04/2000 | NAFTA-4,354 | paint products
AWC Crestline (Co.) | Commerce, TX | 12/06/2000 | NAFTA-4,355 | wood bi-fold doors
Ameripol Synpol (PACE) | Port Neches, TX | 12/06/2000 | NAFTA-4,356 | synthetic rubber
Oxford Automotive (UAW) | Arogoa, IN | 12/06/2000 | NAFTA-4,357 | automated press line
Warm Springs Forest Products Industries (Co.) | Warm Springs, OR | 12/06/2000 | NAFTA-4,358 | lumber
G and P Cutting Contractors (Wkrs) | Parkdale, OR | 08/31/2000 | NAFTA-4,359 | lumber mills
Phelps Trucking (Wkrs) | Hood River, OR | 08/31/2000 | NAFTA-4,360 | timber
Money's Foods (Co.) | Blandon, PA | 12/04/2000 | NAFTA-4,361 | mushrooms
U.S. Forest Industries (Co.) | Medford, OR | 12/06/2000 | NAFTA-4,362 | plywood and lumber
Sherwood Dash (Wkrs) | Rancho Cucamonga, CA | 12/06/2000 | NAFTA-4,363 | wood dash kits
New Venture Gear (UAW) | East Syracuse, NY | 12/08/2000 | NAFTA-4,364 | manual transmissions.
Eastern Fine Paper (Co.) | Brewer, ME | 12/08/2000 | NAFTA-4,365 | opaque papers.
Bynum Concepts (Wkrs) | Tuscola, TX | 12/08/2000 | NAFTA-4,366 | sponge backscrubber.
Carolina Imprints (Co.) | Greenville, NC | 12/07/2000 | NAFTA-4,367 | t-shirts.
Condor DC Power Supplies (Co.) | Brentwood, NY | 12/04/2000 | NAFTA-4,368 | power supplies.
Sola Optical USA (Wkrs) | Miami, FL | 11/22/2000 | NAFTA-4,369 | single vision polycarbonate lenses.
Langstown Corporation (Wkrs) | Cherry Hill, NJ | 12/08/2000 | NAFTA-4,370 | mill roll stands.
Columbia Falls Aluminum (Co.) | Columbia Falls, MT | 12/05/2000 | NAFTA-4,371 | aluminum ingots.
Bermo (IUE) | Sank Rapids, MN | 12/11/2000 | NAFTA-4,372 | machines.
Country Roads (Co.) | Greenville, MI | 12/11/2000 | NAFTA-4,373 | restoration products.
Paper Calmenson (IUE) | St. Paul, MN | 12/04/2000 | NAFTA-4,374 | tools.
NTN—BCA Corp. (Wkrs) | Lititz, PA | 12/11/2000 | NAFTA-4,375 | bearings.
Armtex (Co.) | Pilot Mountain, NC | 12/12/2000 | NAFTA-4,376 | knitted apparel.
Editorial America (Wkrs) | Miami, FL | 12/12/2000 | NAFTA-4,377 | magazines.
Eaton Corporation (Wkrs) | Carol Stream, IL | 12/11/2000 | NAFTA-4,378 | cartridge valves & manifold assemblies.
ABC NACO (UAW) | Melrose Park, IL | 12/13/2000 | NAFTA-4,379 | rail car products.
Wind Industries (Wkrs) | Mt. Pleasant, TX | 12/13/2000 | NAFTA-4,380 | stiles & rails for wooden doors.
Warren Logging (Co.) | Gold Hill, OR | 12/14/2000 | NAFTA-4,381 | lumber.
Comp X—Chicago Lock (Wkrs) | Pleasant Prairie, WI | 12/07/2000 | NAFTA-4,382 | security locks.
Saputo Cheese (IBS) | Monroe, WI | 12/13/2000 | NAFTA-4,383 | process cheese.
Saputo Cheese (IBS) | Thorp, WI | 12/13/2000 | NAFTA-4,384 | blue cheese & gorgonzola cheese.
Dura Automotive Systems (UAW) | East Jordan, MI | 12/08/2000 | NAFTA-4,385 | parking brake components.
Hasbro (Wkrs) | El Paso, TX | 12/15/2000 | NAFTA-4,386 | toys.
Corbin Russwin (IAMAW) | Berlin, CT | 11/29/2000 | NAFTA-4,387 | locks.
Winpak Films (Wkrs) | Senoia, GA | 12/14/2000 | NAFTA-4,388 | plastic food pouches.
Raider Apparel (Co.) | Alma, GA | 12/14/2000 | NAFTA-4,389 | ladies sportswear.
Carolina Narrow Fabric (Wkrs) | Sparta, NC | 12/13/2000 | NAFTA-4,390 | medical fabric.
Screw Machine Technologies (Co.) | Georgetown, KY | 11/28/2000 | NAFTA-4,391 | screw machine.
Lipton (IBT) | Dallas, TX | 12/12/2000 | NAFTA-4,392 | margarine cubes.
Eel River Sawmills (Co.) | Fortuna, CA | 12/14/2000 | NAFTA-4,393 | moulding products.
Prime Cast (Wkrs) | Beloit, WI | 12/18/2000 | NAFTA-4,394 | iron casting.
U.S. Tape and Sticky Products (Wkrs) | Gloucester, MA | 12/21/2000 | NAFTA-4,395 | tape.
Augusta Sportswear (Co.) | Millen, GA | 12/19/2000 | NAFTA-4,396 | apparel activewear.

[FR Doc. 00-33060 Filed 12-27-00; 8:45 am]

BILLING CODE 4510-30-M